DEPARTMENT OF JUSTICE

Environmental and Natural Resources Division; Notice of Lodging Proposed Consent Decree

In accordance with Departmental Policy, 28 CFR 50.7, notice is hereby given that a proposed Decree in United States v. Abeldgaard, Civ. No. A-01-378 Civil (RRB) (D. Alaska), was lodged with the United States District Court for the District of Alaska on May 10, 2005.

This proposed Consent Decree concerns a complaint filed by the United States against Cloyd Moser and Modeb Investments, pursuant to Sections 309(b) and (d) of the Clean Water Act (“CWA”), 33 U.S.C. 1319(b) and (d), to obtain injunctive relief from and civil penalties against the Defendants for violating the Clean Water Act by discharging pollutants without a permit into waters of the United States. The proposed Consent Decree resolves these allegations by requiring the Defendants to restore the impacted areas and to pay a civil penalty. The Consent Decree also provides for the Defendants to perform a supplemental environmental project.

The Department of Justice will accept written comments relating to this proposed Consent Decree for thirty (30) days from the date of publication of this Notice. Please address comments to Mark A. Nitczynski, Environmental Defense Section, 999 18th Street, Suite 945, North Tower, Denver, Colorado 80207, and refer to United States v. Abeldgaard, DJ Reference No. 90-5-1-1-16195.

The proposed Consent Decree may be examined at the Clerk's Office, United States District Court for the District of Alaska, 222 West 7th Ave. #4, Anchorage, Alaska 99513. In addition, the proposed Consent Decree may be viewed at http://www.usdoj.gov/enrd/open.html.

Christopher Vaden,
Deputy Section Chief, Environmental Defense Section, Environmental & Natural Resources Division.

[FR Doc. 05-9942 Filed 5-18-05; 8:45 am]

BILLING CODE 4410-15-M